Title 3—

The President

Notice of December 10, 2025

Continuation of the National Emergency With Respect to Serious Human Rights Abuse and Corruption

On December 20, 2017, by Executive Order 13818, the President declared a national emergency with respect to serious human rights abuse and corruption around the world and, pursuant to the International Emergency Economic Powers Act (50 U.S.C. 1701 et seq.), took related steps to deal with the unusual and extraordinary threat to the national security, foreign policy, and economy of the United States.

The prevalence and severity of human rights abuse and corruption that have their source, in whole or in substantial part, outside the United States, continue to pose an unusual and extraordinary threat to the national security, foreign policy, and economy of the United States. For this reason, the national emergency declared on December 20, 2017, must continue in effect beyond December 20, 2025. Therefore, in accordance with section 202(d) of the National Emergencies Act (50 U.S.C. 1622(d)), I am continuing for 1 year the national emergency declared in Executive Order 13818 with respect to serious human rights abuse and corruption.

This notice shall be published in the Federal Register and transmitted to the Congress.

THE WHITE HOUSE,

December 10, 2025.

[FR Doc. 2025-22785

Filed 12-11-25; 11:15 am]

Billing code 3395-F4-P